DEPARTMENT OF JUSTICE

Antitrust Division

Notice Pursuant to the National Cooperative Research and Production Act of 1993—National Center for Manufacturing Sciences, Inc.

Notice is hereby given that, on July 27, 2011, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Anglicotech LLC, Washington, DC; Battelle, Columbus, OH; Baxter Healthcare Corporation, Round Lake, IL; Climax Portable Machine Tools, Inc., Newberg, OR; Clockwork Solutions, Inc. (CSI), Austin, TX; Eastern Michigan University, Ypsilanti, MI; Edison Welding Institute (EWI), Columbus, OH; General Dynamics, St. Petersburg, FL; GM Powertrain—Transmission Manufacturing Engineering, Pontiac, MI; Intel Corporation, Chandler, AZ; InTheWorks, Inc., Bainbridge Island, WA; M.P. Chene, Inc., Yorba Linda, CA; The Marlin Group, LLC, Oak Hill, VA; Microsoft Corporation, Cambridge, MA; MTConnect Institute, McLean, VA; The National Center for Technology Advancement (NCTA), Arlington, VA; OBD Solutions, Phoenix, AZ; The Ohio State University/Ohio Supercomputer Center (OSC), Columbus, OH; Optomec, Inc., Albuquerque, NM; Picometrix, LLC, Ann Arbor, MI; Portal Dynamics Inc., Alexandria, VA; Portland Tacoma (PORTAC) Consulting, Stevenson, WA; Services and Solutions Group, LLC, N. Charleston, SC; Southwest Research Institute, San Antonio, TX; Topline Technology Solutions, LLC, Bedford, IN; TotalSim LLC, Dublin, OH; Universal Synaptics Corporation, Ogden, UT; University of Louisville, Louisville, KY; University of Massachusetts Lowell, Lowell, MA; University of Texas Austin, Austin, TX; Vista Controls, Inc., dba Curtiss-Wright Controls Electronic Systems, Santa Clarita, CA; and Wend Associates, Inc., Marine City, MI, have been added as parties to this venture.

Also, Aging Aircraft Consulting, LLC, Warner Robins, GA; Anautics, Oklahoma City, OK; ARC Technology Solutions, LLC, Nashua, NH; BAE Systems, Wayne, NJ; BCT Technology, Inc., Keene, NH; Coherix, Inc., Ann Arbor, MI; Eastern Instrumentation of Philadelphia, Morristown, NJ; Engineered Performance Materials Company, LLC, Saline, MI; EOS of North America, Inc., Chanhassen, MN; GSA Service Company, Sterling, VA; Intelli-Check Mobilisa, Inc., Alexandria, VA; National Research Council, London, Ontario, CANADA; Next Energy Center, Detroit, MI; Raytheon Company, Dallas, TX; Siemens AG, Exton, PA; Support Systems Associates, Inc., Melbourne, FL; and VCAMM Ltd., Belmont, Victoria, AUSTRALIA, have withdrawn as parties to this venture.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursant to Section 6(b) of the Act on March 17, 1987 (52 FR 8375).

The last notification was filed with the Department on July 26, 2010. A notice was published in the Federal Register pursuant to Section 6(b) of the Act on September 8, 2010 (75 FR 54652).

Patricia A. Brink,
Director of Civil Enforcement, Antitrust Division.

[FR Doc. 2011-24398 Filed 9-22-11; 8:45 am]

BILLING CODE 4410-11-M